DEPARTMENT OF HEALTH AND HUMAN SERVICES

Centers for Disease Control and Prevention

[30Day-17-0955]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposal collection of information are encouraged. Your comments should address any of the following: (a) Evaluate whether the proposed collection of information is necessary for the proper performance of the functions of the agency, including whether the information will have practical utility; (b) Evaluate the accuracy of the agencies estimate of burden of the proposed collection of information, including the validity of the methodology and assumptions used; (c) Enhance the quality, utility, and clarity of the information to be collected; (d) Minimize the burden of the collection of information to those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

Early Hearing Detection and Intervention-Pediatric Audiology Links to Service (EHDI-PALS) Survey (OMB No. 0920-0955, Expiration Date 03/31/2017)—Revision—National Center on Birth Defects and Developmental Disabilities (NCBDDD), Centers for Disease Control and Prevention (CDC).

Background and Brief Description

The Division of Human Development and Disability, located within NCBDDD, promotes the health of babies, children, and adults, with a focus on preventing birth defects and developmental disabilities and optimizing the health outcomes of those with disabilities. In 2014, 2015, and 2016, NCBDDD sponsored the Early Hearing Detection and Intervention-Pediatric Audiology Links to Service (EHDI-PALS) Survey. NCBDDD requests OMB approval to continue conducting the EHDI-PALS Survey in 2017, 2018, and 2019. The survey is designed to facilitate timely referrals for hearing screening, diagnostic, and follow-up care services for infants and children ages 0-5 years.

Early interventions for infants and children with hearing loss can prevent or mitigate delays in speech, language, and cognitive development. Since passage of the Early Hearing Detection and Intervention (EHDI) Act in 2010, 98% of newborn infants are now screened for hearing loss prior to hospital discharge. Many states have additional legislation that requires health care providers to report cases of childhood hearing loss to state-based EHDI programs. Key recommendations are based on the “1-3-6” framework: Screening of all infants for hearing loss by 1 month of age, ensuring diagnostic audiologic evaluation by 3 months of age for those who do not pass the screening, and enrollment in early intervention services by 6 months of age for those identified with hearing loss. However, many infants and children do not receive the recommended hearing tests and follow-up services. In 2013, the national average loss to follow-up/loss to documentation rate was 32%, but varied widely from state to state and within states.

High rates of loss to follow-up or loss to documentation remain areas of critical concern for state EHDI programs. Reasons for loss to follow-up or documentation include lack of convenient audiology clinics (geographic distribution of clinics), lack of providers with the specialized training needed to diagnose or treat infants and children ages 0-5 (capacity), consumers' difficulty finding the right provider (information), providers' lack of awareness of or compliance with state reporting requirements (compliance), and other factors.

The annual EHDI-PALS Survey was developed to help states verify the distribution of their pediatric audiology resources, quantify their true follow-up capacity, and support efforts to meet diagnostic and follow-up goals defined by the 1-3-6 framework. Survey respondents are audiologists and audiology facility managers who submit information online through a secure, password protected site managed by the University of Maine. Survey findings have been made available to state EHDI program staff through specialized reports useful for program planning and evaluation. In addition, information has been made available to state EHDI staff and the public through the EHDI-PALS Web site, which provides a searchable directory of facilities and practices that offer pediatric audiology services. Since 2014, state EHDI program personnel accessed the collected data over 3,000 times and consumers visited the EHDI-PALS site for facility information over 140,000 times. This high usage rate lends strong support for survey continuation.

Participation will be requested in two ways. Both the American Speech-Language-Hearing Association and the American Academy of Audiology are members of the EHDI-PALS workgroup and will continue to disseminate announcements through association e-newsletters and e-announcements requesting the participation of their members. CDC estimates that this will result in 200 new responses per year. The estimated burden for a new respondent is 9 minutes. Respondents who have participated in the EHDI-PALS survey in previous years will receive a brief email from the University of Maine asking them to review the information on file for them. It is estimated that approximately 800 audiologists will do so. It takes approximately 2 minutes per person to review and update previously submitted data. Finally, it is estimated that an additional 400 audiologists will read through the purpose statement located on page one of the survey and discontinue their participation. The estimated burden per response for a dropout is 1 minute. The revised method of calculating burden results in a reduction in total estimated annualized burden hours.

Participation is voluntary and there are no costs to respondents other than their time. The total estimated annualized burden hours are 64.

CDC requests approval from OMB to continue the EHDI-PALS survey for three years. There are no changes to the online survey instrument. Survey findings will continue to be used for state-based program improvement and to assist consumers in locating facilities that offer the services they need. In addition, CDC's EHDI program will use findings to provide targeted technical assistance to state-based EHDI programs.

Estimated Annualized Burden Hours
Type of respondent | Form name | Number of respondents | Number of responses per respondent | Average burden per response (in hours)
Audiologist or practice representative (first-time participant) | EHDI-PALS Survey | 200 | 1 | 9/60
Audiologist or practice representative (previous participant) | EHDI-PALS Survey | 800 | 1 | 2/60
Audiologist or practice representative (survey dropout) | EHDI-PALS Survey Introduction | 400 | 1 | 1/60

Leroy A. Richardson,
Chief, Information Collection Review Office, Office of Scientific Integrity, Office of the Associate Director for Science, Office of the Director, Centers for Disease Control and Prevention.

[FR Doc. 2017-02980 Filed 2-14-17; 8:45 am]

BILLING CODE 4163-18-P